DEPARTMENT OF DEFENSE

Department of the Army

[Docket ID: USA-2018-HQ-0020]

Proposed Collection; Comment Request

AGENCY: Department of the Army, DoD.

ACTION: Information collection notice.

SUMMARY: In compliance with the Paperwork Reduction Act of 1995, the Army & Air Force Exchange Service (Exchange) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Army & Air Force Exchange Service, Office of the General Counsel, Compliance Division, ATTN: Teresa Schreurs, 3911 South Walton Walker Blvd., Dallas, TX 75236-1598 or call the Exchange Compliance Division at 800-967-6067.

SUPPLEMENTARY INFORMATION:

Title; Associated Form; and OMB Number: Army & Air Force Exchange Service Identification & Privilege Card Application; Exchange Form 1100-016; OMB Control Number 0702-0129.

Needs and Uses: The information collection requirement is necessary to obtain authorization or continued authorization for patronage to Exchange retirees and Exchange associate dependents for shopping privileges.

Affected Public: Individuals or Households.

Annual Burden Hours: 625.

Number of Respondents: 2,500.

Responses per Respondent: 1.

Annual Responses: 2,500.

Average Burden per Response: 15 Minutes.

Frequency: On occasion.

Respondents are Exchange employee dependents and Exchange retirees who wish to become or remain eligible Exchange patrons. Exchange Form 1100-016 provides Exchange Human Resource information to verify and authorize patronage to these individuals. If verification is approved, the individual will obtain a personalized, laminated dependent card for shopping privileges.

Dated: October 18, 2018.
Aaron T. Siegel,
Alternate OSD Federal Register Liaison Officer, Department of Defense.

[FR Doc. 2018-23155 Filed 10-23-18; 8:45 am]

BILLING CODE 5001-06-P